DEPARTMENT OF TRANSPORTATION

Federal Aviation Administration

RTCA Special Committee 193/EUROCAE Working Group 44: Terrain and Airport Databases

AGENCY: Federal Aviation Administration (FAA), DOT.

ACTION: Notice of RTCA Special Committee 193/EUROCAE Working Group 44 meeting.

SUMMARY: The FAA is issuing this notice to advise the public of a meeting of RTCA Special Committee 193/EUROCAE Working Group 44: Terrain and Airport Databases.

DATES: The meeting will be held June 4-8, 2001 from 9 a.m.-5 p.m.

ADDRESSES: The meeting will be held at RTCA Headquarters, 1140 Connecticut Avenue, NW., Washington, DC 20036.

FOR FURTHER INFORMATION CONTACT: RTCA Secretariat, 1140 Connecticut Avenue, NW., Washington, DC 20036; telephone (202) 833-9339; fax (202) 833-9434; web site http://www.rtca.org.

SUPPLEMENTARY INFORMATION: Pursuant to section 10(a)(2) of the Federal Advisory Committee Act (Pub. L. 92-463, 5 U.S.C., Appendix 2), notice is hereby given for a Special Committee 193/EUROCAE Working Group 44 meeting. The agenda will include:

June 4

• Opening Plenary Session (Welcome and Introductory Remarks, Review/Approval of Meeting Agenda, Review Summary of Previous Meeting)

• Presentations/Discussions of formation of new Subgroup 4 (Terrain and Airport Data Exchange Formats)

• Subgroup 2 (Terrain and Obstacle Databases):

—Review past minutes and actions; Presentations; Review of draft document

• Subgroup 3 (Airport Databases):

—Review past minutes and actions; Begin Final Review and Comment (FRAC)

Process for the User Requirements for Aerodrome Mapping Information document

June 5, 6, 7

• Subgroups 2 and 3 continue discussions

June 8

• Closing Plenary Session (Summary of Subgroups 2 and 3, Summary of Discussion on Subgroup 4, Assign Tasks, Other Business, Date and Place of Next Meetings, Adjourn)

Attendance is open to the interested public but limited to space availability. With the approval of the chairmen, members of the public may present oral statements at the meeting. Persons wishing to present statements or obtain information should contact the person listed in the FOR FURTHER INFORMATION CONTACT section.

Issued in Washington, DC, on May 15, 2001.
Janice L. Peters,
FAA Special Assistant, RTCA Advisory Committee.

[FR Doc. 01-12724 Filed 5-18-01; 8:45 am]

BILLING CODE 4910-13-M